DEPARTMENT OF LABOR

Employment and Training Administration

[TA-W-82,188; TA-W-82,188A]

PNC Bank, National Association, Retail Bank Franklin, PA; PNC Bank, National Association, Retail Bank West Chester, IL; Notice of Negative Determination Regarding Application for Reconsideration

By application received on January 25, 2013, petitioners requested administrative reconsideration of the negative determination regarding workers' eligibility to apply for Trade Adjustment Assistance (TAA) applicable to workers and former workers of PNC Bank, National Association, Retail Bank, Franklin, Pennsylvania (TA-W-82,188), and PNC Bank, National Association, Retail Bank, West Chester, Illinois (TA-W-82,188A) (hereafter referred to collectively as “the subject firm”). The negative determination was issued on December 27, 2012. The Department's Notice of Determination was published in the Federal Register on January 10, 2013 (78 FR 2290). The subject firm supplies banking and financial services; the subject worker groups supply call center services.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination was based on the Department's findings that the subject firm did not shift to a foreign country the call center services supplied by the workers, or like or directly competitive services, or acquire such services from a foreign country; that increased imports by the subject firm of the supply of services like or directly competitive with the call center services supplied by the workers did not contribute importantly to the workers' separation, or threat of separation; and that the workers' firm is not a supplier or a downstream producer to a firm that employed a group of workers who are eligible to apply for TAA.

The request for reconsideration alleges that worker group separations at PNC's Retail Banks in Franklin, Pennsylvania and West Chester, Illinois are attributable to a shift of services to foreign countries; specifically, that the subject firm's confirmation that there were no increased imports of call center services in 2010, 2011, and during January through October 2012 is “an admission on the part of PNC that it does outsource services like or directly competitive with call center services” and that PNC Bank has advertised for a “Project Manager for PNC Bank at Tata Consultancy Services” in India. The request also states that the “other facilities within the United States” to which call center services shifted from the Franklin, Pennsylvania and West Chester, Illinois facilities are “over 90 miles away resulting in a 2-hour one-way commute.”

The request for reconsideration also repeated assertions in the TAA petition, included copies of certifications applicable to workers of several banks (TA-W-82,037; TA-W-81,995; TA-W-81,832; TA-W-81,616; TA-W-80,440; TA-W-80,361; and TA-W-80,278), and referred to attachments to the TAA petition.

A careful review of previously-submitted information shows that the Department received information from the subject firm that directly addressed the allegations of a shift in the supply of call center services (and like or directly competitive services) to a foreign country (including the specific allegation of the shift of services to Canada and the United Kingdom); use of call centers outside the United States; and increased imports of call center services (and like or directly competitive services). The review also shows that the Department had considered the supplemental petition material prior to issuing the negative determination.

The petitioners did not supply facts not previously considered or provide additional documentation indicating that there was either a mistake in the determination of facts not previously considered or a misinterpretation of facts or of the law justifying reconsideration of the initial determination. Based on these findings, the Department determines that 29 CFR 90.18(c) has not been met.

Conclusion

After review of the applications and investigative findings, I conclude that there has been no error or misinterpretation of the law or of the facts which would justify reconsideration of the Department of Labor's prior decision. Accordingly, the application is denied.

Signed at Washington, DC, this 12th day of February, 2013.
Del Min Amy Chen,
Certifying Officer, Office of Trade Adjustment Assistance.

[FR Doc. 2013-04023 Filed 2-21-13; 8:45 am]

BILLING CODE 4510-FN-P